FEDERAL MINE SAFETY AND HEALTH REVIEW COMMISSION

Sunshine Act Meeting

November 1, 2006.

Time and Date: 2 p.m., Wednesday, November 15, 2006.

Place: U.S. Department of Labor Main Auditorium, Francis Perkins Building, 200 Constitution Avenue, NW., Washington, DC.

Status: Open.

Matters to Be Considered: The Commission will hear oral argument in the matter Secretary of Labor v. Jim Walter Resources, Inc., Docket No. SE 2005-51. (Issues include whether substantial evidence, including inferences drawn from the record, supports the conclusion of the Administrative Law Judge that the operator violated 30 CFR 75.1725(c) when a miner allegedly performed maintenance work on a conveyor belt without cutting off the power and blocking the belt against motion; whether the judge correctly concluded that the violation was significant and substantial; and whether the judge properly assessed the penalty against the operator.)

Any person attending this oral argument who requires special accessibility features and/or auxiliary aids, such as sign language interpreters, must inform the Commission in advance of those needs. Subject to 29 CFR 2706.150(a)(3) and 2706.160(d).

Contact Person for More Info: Jean Ellen (202) 434-9950/(202) 708-9300 for TDD Relay/1-800-877-8339 for toll free.

Jean H. Ellen,
Chief Docket Clerk.

[FR Doc. 06-9144 Filed 11-6-06; 12:47 pm]

BILLING CODE 6735-01-M